Proclamation 10932 of May 5, 2025

National Small Business Week, 2025

By the President of the United States of America

A Proclamation

Small businesses power our economy from the ground up, driving innovation and building products that keep America strong, competitive, and secure. During National Small Business Week, we celebrate the unyielding spirit, creativity, and perseverance of our hardworking entrepreneurs who dare to dream big.

Small businesses are vital to our economy. America has 33 million small businesses that employ 61.7 million Americans—nearly half of the private-sector workforce—and create almost two out of every three new jobs in the country.

In recent years, small business owners have faced unprecedented challenges—record high inflation, reckless Federal spending, and burdensome regulations—yet have remained committed to delivering for America's communities.

Small businesses across the country have also carried the burden of a broken global trade system for far too long. Originally designed after World War II to support recovery in war-torn nations, it is now exploited by foreign competitors. They flood our markets with cheap goods while shutting out quality American products.

Too many in our Government were afraid to tackle this problem. Now, at last, my Administration is fixing it. On Liberation Day, we implemented targeted tariffs to protect American businesses from unfair trade practices and to strengthen local supply chains. We are putting American people first and delivering long-overdue relief for our workers and entrepreneurs.

My Administration is unleashing a new era of opportunity for small businesses built on common sense and pro-growth policies that put our workers and our job creators first. We are cutting red tape, keeping taxes low, promoting fair and reciprocal trade practices, and fighting for hardworking Americans.

The Made in America Manufacturing Initiative is creating good-paying jobs and securing our supply chains, while cutting $100 billion in regulations that disproportionately burden small businesses and manufacturers. Free from crippling compliance and regulatory hurdles, we are empowering our businesses to focus on what they do best: business.

Entrepreneurship is the foundation of a free and prosperous Nation and the engine of the American economy—built by men and women who work hard, take risks, and believe in the power of the American Dream. From our fields to our factories to the frontiers of technology, our small businesses embody the American spirit, driving growth and creating new employment opportunities. Our history of ingenuity and grit is unrivaled, and by renewing our support of small businesses, we are raising wages, strengthening American families, and leading our country and the world into a new Golden Age.

NOW, THEREFORE, I, DONALD J. TRUMP, President of the United States of America, by virtue of the authority vested in me by the Constitution and the laws of the United States, do hereby proclaim May 4 through May 10, 2025, as National Small Business Week. I call upon all Americans to recognize the critical contributions of America's entrepreneurs and small business owners as they grow our Nation's economy.

IN WITNESS WHEREOF, I have hereunto set my hand this fifth day of May, in the year of our Lord two thousand twenty-five, and of the Independence of the United States of America the two hundred and forty-ninth.

[FR Doc. 2025-08265

Filed 5-7-25; 11:15 am]

Billing code 3395-F4-P